DEPARTMENT OF THE INTERIOR

Bureau of Land Management

[BLM_NM_FRN_MO#4500171504]

Notice of Application for Withdrawal Extension, and Opportunity for Public Meeting for the Federal Law Enforcement Training Center; New Mexico

AGENCY: Bureau of Land Management, Interior.

ACTION: Notice.

SUMMARY: The Bureau of Land Management (BLM) on behalf of the Department of Homeland Security (DHS) Federal Law Enforcement Training Center (FLETC) is requesting the Secretary of the Interior extend Public Land Order (PLO) No. 7591 for an additional 20-year term. PLO No. 7591 withdrew 1,920.80 acres of lands from location and entry under the United States mining laws for a period of 20 years for protection, operation, and maintenance of the DHS's FLETC. The withdrawal created by PLO No. 7591, will expire on November 19, 2023, unless extended. This Notice announces to the public an opportunity to comment on the proposal and to request a public meeting.

DATES: Comments and requests for public meeting regarding the withdrawal extension application must be received by October 5, 2023.

ADDRESSES: All comments should be sent to Tammie Hochstein, Federal Law Enforcement Training Center Withdrawal Extension, Bureau of Land Management Carlsbad Field Office, 620 E Greene Street, Carlsbad, NM 88220-6292.

FOR FURTHER INFORMATION CONTACT: Robert Gomez, BLM Carlsbad Field Office, 575-234-5989, or rgomez@blm.gov during regular business hours, 8 a.m. to 4:30 p.m., MDT, Monday through Friday, except holidays.

Individuals in the United States who are deaf, deafblind, hard of hearing, or have a speech disability may dial 711 (TTY, TDD, or Tele Braille) to access telecommunications relay services. Individuals outside the United States should use the relay services offered within their country to make international calls to the point-of-contact in the United States.

SUPPLEMENTARY INFORMATION: The DHS's FLETC filed an application requesting extension of the withdrawal established by PLO No. 7591 (68 FR 65471), incorporated herein by reference, which is set to expire on November 19, 2023. PLO No. 7591 withdrew 1,920.80 acres of lands from location and entry under the United States mining laws for a period of 20 years for protection, operation, and maintenance of the DHS's FLETC. This withdrawal was issued subject to valid existing rights. Maps and other project information are found in the NMNM-109118 casefile and can be viewed at the Carlsbad Field Office.

The use of a right-of-way, interagency agreement, or cooperative agreement would not provide adequate protection for this site.

No water rights will be needed to fulfill the purpose of the requested withdrawal.

Before including your address, phone number, email address, or other personal identifying information in your comment, be advised that your entire comment—including your personal identifying information—may be made publicly available at any time. While you may ask the BLM in your comment to withhold your personal identifying information, we cannot guarantee that we will be able to do so.

Notice is hereby given that an opportunity for a public meeting is afforded in connection with the withdrawal extension application. All interested persons who desire a public meeting for the purpose of being heard on the DHS application for withdrawal extension must submit a written request to the BLM Carlsbad Field Office, at the address in the ADDRESSES section, within 90 days from the date of publication of this notice. If the authorized officer determines that a public meeting will be held, a notice of the date, time, and place will be published in the Federal Register, local newspapers, and on the BLM website at www.blm.gov at least 30 days before the scheduled date of the meeting.

This withdrawal extension application will be processed in accordance with the regulations set forth in 43 CFR 2310.4.

(Authority: 43 U.S.C. 1714.)

Melanie G. Barnes,
State Director.

[FR Doc. 2023-14423 Filed 7-6-23; 8:45 am]

BILLING CODE 4331-23-P